DEPARTMENT OF STATE

[Public Notice: 9609]

60-Day Notice of Proposed Information Collection: Application for the Permanent Export, Temporary Export, or Temporary Import of Defense Munitions, Defense Services, and Related Technical Data

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to August 19, 2016.

ADDRESSES: You may submit comments by any of the following methods:

• Web: Persons with access to the Internet may comment on this notice by going to www.Regulations.gov. You can search for the document by entering “Docket Number: DOS-2016-0043” in the Search field. Then click the “Comment Now” button and complete the comment form.

• Email: DDTCPublicComments@state.gov.

• Regular Mail: Send written comments to: Directorate of Defense Trade Controls, Attn: Managing Director, 2401 E St. NW., Suite H-1205, Washington, DC 20522-0112.

You must include the DS form number, information collection title, and OMB control number in any correspondence.

FOR FURTHER INFORMATION CONTACT: Direct requests for additional information regarding the collection listed in this notice, including requests for copies of the proposed collection instrument and supporting documents, to Steve Derscheid—Directorate of Defense Trade Controls, Department of State, who may be reached at DerscheidSA@state.gov.

SUPPLEMENTARY INFORMATION:

• Title of Information Collection: Application for Permanent Export, Temporary Export, or Temporary Import of Defense Munitions, Defense Services, and Related Technical Data.

• OMB Control Number: None.

• Type of Request: New Collection.

• Originating Office: Directorate of Defense Trade Controls, Bureau of Political Military Affairs, Department of State (T/PM/DDTC).

• Form Number: DS-7788.

• Respondents: Individuals and companies registered with DDTC and engaged in the business of exporting or temporarily importing defense hardware or defense technology data.

• Estimated Number of Respondents: 12,500.

• Estimated Number of Responses: 45,000.

• Average Time per Response: 3 hours.

• Total Estimated Burden Time: 135,000 hours.

• Frequency: On occasion.

• Obligation to Respond: Required to obtain or retain benefits.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of proposed collection:

The Directorate of Defense Trade Controls (DDTC), located in the Political-Military Affairs Bureau of the Department of State, has the principal mission of licensing the permanent export, temporary export, and temporary import of defense articles, defense services, and related technical data as enumerated in the United States Munitions List (USML), and to ensure that the sale, transfer, or brokering of such items are in the interest of U.S. national security and foreign policy. To this end, DDTC has historically utilized several form-based submissions to collect information from applicants for export or temporary import licenses. However, as new programmatic requirements have been promulgated, whether in response to changing geopolitical events, legislation, or interagency requirements, many aspects of the forms used by DDTC have become outdated.

This information collection will supersede forms DSP-5, DSP-6, DSP-61, DSP-62, DSP-71, and DSP-74 which are currently used by DDTC. Over a period of several months, DDTC staff have revised and updated the data collection fields to more closely mirror the needs of industry and federal government partners. Moreover, DDTC has acquired a new case management IT solution to modernize its business processes. As a part of this modernization process, licensing operations will move from the current, largely form-based submissions to an intuitive system which will allow both industry users and DDTC staff to smoothly and securely navigate the submission and review process. In addition, DDTC has worked closely with its interagency partners to construct this new licensing application to collate with the International Trade Data System (ITDS), a cornerstone of President Obama's export control reform initiative. Therefore, this information collection has been designed to both dovetail with the ITDS system in addition to achieving a higher level of usability and security for DDTC's current industry users.

Methodology:

This information will be collected via electronic submission to the Directorate of Defense Trade Controls. In the case of a major system outage, a continuity-of-operations plan has been developed to ensure submissions to DDTC can continue. A paper version of the form may be made available in cases of hardship or to those respondents who do not have internet access.

Dated: June 6, 2016.
Lisa Aguirre,
Managing Director, Directorate of Defense Trade Controls, Department of State.

[FR Doc. 2016-14501 Filed 6-17-16; 8:45 am]

BILLING CODE 4710-25-P